LEGAL SERVICES CORPORATION

Notice of Availability of 2002 Competitive Grant Funds for Service Area WI-2, WI-5, MWI and NWI-1 in Wisconsin

AGENCY: Legal Services Corporation.

ACTION: Solicitation of Proposals for the provision of Civil legal Services for service areas WI-2, WI-5, MWI and NWI-1 in Wisconsin.

SUMMARY: The Legal Services Corporation (LSC) is the national organization charged with administering federal funds provided for civil legal services to the poor. Congress has adopted legislation requiring LSC to utilize a system of competitive bidding for the award of grants and contracts.

LSC hereby announces that it is reopening competition for 2002 competitive grant funds and is soliciting grant proposals from interested parties who are qualified to provide effective, efficient and high quality civil legal services to the eligible client population in the Basic Field-General, Basic Field-Migrant and Basic Field-Native American service areas in Wisconsin. The exact amount of congressionally appropriated funds and the date and terms of their availability for calendar year 2002 are not known, although it is anticipated that the funding amount will be similar to calendar year 2001 funding. LSC has canceled the competition and rejected all previous bids for Wisconsin service areas WI-5, NWI-1 and MWI.

DATES: Request for Proposals (RFP) are available from www.ain.lsc.gov. A Notice of Intent to Compete is due by 5 p.m. ET, October 26, 2001. Grant proposals must be received at LSC offices by 5 p.m. ET, November 16, 2001.

ADDRESSES: Legal Services Corporation—Competitive Grants, 750 First Street NE., 10th Floor, Washington, DC 20002-4250.

FOR FURTHER INFORMATION CONTACT: Jennifer Bateman, Grants Coordinator, Office of Program Performance, (202) 336-8835.

SUPPLEMENTARY INFORMATION: LSC is seeking proposals from non-profit organizations that have as a purpose the furnishing of legal assistance to eligible clients, and from private attorneys, groups of private attorneys or law firms, state or local governments, and substate regional planning and coordination agencies which are composed of substate areas and whose governing boards are controlled by locally elected officials.

The solicitation package, containing the grant application, guidelines, proposal content requirements and specific selection criteria, is available at www.ain.lsc.gov.

Dated: October 2, 2001.
Michael A. Genz,
Director, Office of Program Performance.

[FR Doc. 01-25178 Filed 10-5-01; 8:45 am]

BILLING CODE 7050-01-P